DEPARTMENT OF DEFENSE

Department of the Army

Preparation of an Environmental Impact Statement (EIS) for Army Growth and Force Structure Realignment at Fort Bliss, Texas and New Mexico

AGENCY: Department of the Army, DoD.

ACTION: Notice of Intent (NOI).

SUMMARY: This announces the intention of the U.S. Army to prepare an EIS analyzing the impacts of Army Growth and Force Structure Realignment at Fort Bliss. The Fort Bliss Army Growth EIS will tier from the Final Programmatic EIS for Army Growth and Force Structure Realignment, for which a Record of Decision (ROD) was signed in December 2007. That ROD directed stationing of two Infantry Brigade Combat Teams (IBCTs) at Fort Bliss, and the stationing of Heavy Brigade Combat Teams (HBCTs) (returning from Germany) at Fort Bliss and White Sands Missile Range (WSMR). Army BCTs consist of approximately 3,500-4,000 soldiers. The HBCT at WSMR will leverage training infrastructure and range modernization that has taken place at Fort Bliss. These actions are scheduled over the next five years.

ADDRESSES: Written comments should be forwarded to: Mr. Walter J. Christensen, Attention: FB GTA EIS; IMWE-BLS-PWE; Fort Bliss, TX 79916 6812; or faxed to (915) 568-3548.

FOR FURTHER INFORMATION CONTACT: Jean Offutt, Fort Bliss Public Affairs Office; IMWE-BLS-PA; Fort Bliss, Texas, 79916-6812; phone: (915) 568-4505.

SUPPLEMENTARY INFORMATION: Actions proposed to be taken at Fort Bliss in support of Army growth have the potential to significantly impact the natural and human environment in and around Fort Bliss as a result of facility construction and new and different uses of the Fort Bliss Training Complex (FBTC). The study area for the environmental analysis will be the Fort Bliss installation and surrounding communities. The objective of this analysis is to provide a comprehensive EIS that will serve as a planning tool and public information source. Several categories of alternatives will be considered:

(1) Stationing/Training: Known and reasonably foreseeable stationing and training actions will be analyzed. This includes additional units and use of any element of the Army's equipment inventory (e.g., Stryker).

(2) Land Use: Various land use changes in support of the Fort Bliss mission are proposed for analysis. Portions of the Sacramento Mountains and foothills are anticipated for infantry maneuver and training use, to include off-road vehicle maneuver where the terrain permits. Additional bivouac/logistics sites are proposed in grasslands on the FBTC, including southeast McGregor Range and Otero Mesa.

(3) Facility Improvement: New firing ranges necessary to support IBCTs will be analyzed as part of the proposed action. In addition, the proposed action contemplates construction of a rail line linking the cantonment area to the FBTC, expansion of range camps, and construction of Forward Operating Bases similar to those used in current operations. Cantonment area development to support the growth of personnel at Fort Bliss will also be analyzed.

Initial screening of the proposed action for potentially significant environmental impacts suggests the following eight resource areas receive the greatest scrutiny in this EIS: Land use, archaeological resources, Native American consultation, natural resources, water and wastewater, facility construction, population and housing, and public services.

Federal, state, and local agencies, Tribal governments and the public are invited to participate in the scoping process for this EIS through public meetings and submission of written comments. Notification of times and locations for the scoping meetings will be published in local newspapers. The scoping process will help identify alternatives, potential environmental impacts, and key issues of concern for analysis in the EIS. To ensure scoping comments are fully considered in the Draft EIS, comments and suggestions should be received no later than 45 days following publication of this NOI.

Dated: September 18, 2008.
Addison D. Davis, IV,
Deputy Assistant Secretary of the Army (Environment, Safety, and Occupational Health).

[FR Doc. E8-22478 Filed 9-24-08; 8:45 am]

BILLING CODE 3710-08-M